U.S. DEPARTMENT OF COMMERCE

Foreign-Trade Zones Board

[Docket 18-2009]

Proposed Foreign-Trade Zone, Kern County, California, Application and Public Hearing

An application has been submitted to the Foreign-Trade Zones (FTZ) Board (the Board) by the County of Kern Department of Airports to establish a general-purpose foreign-trade zone at sites in Kern County, California. Meadows Field Airport in Kern County has been designated by U.S. Customs and Border Protection as a user fee airport. The application was submitted pursuant to the provisions of the FTZ Act, as amended (19 U.S.C. 81a-81u), and the regulations of the Board (15 CFR Part 400). It was formally filed on April 28, 2009. The applicant is authorized to make the proposal under the California Government Code, Sections 6300-6305.

The proposed zone would consist of two sites located in Kern County, California. They are as follows: Site 1 (231 acres, 3 parcels) - Parcel 1A (200 acres), within the 1,332-acre Meadow Field Airport complex (includes an aviation fuel depot), 1401 Skyway Drive, Bakersfield; Parcel 1B (1 acre) - at the P.R.I.M.E. (Pacific Rim & India Multinational Enterprises Corporation) warehouse facility, 2341 Cepheus Court, Bakersfield; and, Parcel 1C (30 acres) - located at the 110-acre Wingsport Industrial Park, Merle Haggard & Wings Way, Bakersfield. Parcels 1B and 1C are adjacent to the Meadows Field Airport. Parcel 1A is owned by Kern County. Parcels 1B and 1C are owned by private owners; and, Site 2 (167 acres) - located at the 1,450-acre Tejon Industrial Complex, intersection of I-5 and Highway 99, Lebec. Site 2 will incorporate parcels that have previously been part of Site 2 of FTZ 202 and of Subzone 202D within the Tejon Industrial Complex.

The application indicates a need for zone services in Kern County, California. Several firms have indicated an interest in using zone procedures for warehousing/distribution activities for a variety of products. Specific manufacturing approvals are not being sought at this time. Requests would be made to the Board on a case-by-case basis.

In accordance with the Board's regulations, Kathleen Boyce of the FTZ staff is designated examiner to investigate the application and report to the Board.

As part of the investigation, the Commerce examiner will hold a public hearing on May 27, 2009, 9 a.m., at the International Terminal Building at Meadows Field Airport, 1401 Skyway Drive, Bakersfield, California.

Public comment on the application is invited from interested parties. Submissions (original and 3 copies) shall be addressed to the Board's Executive Secretary at the address listed below. The closing period for their receipt is July 6, 2009. Rebuttal comments in response to material submitted during the foregoing period may be submitted during the subsequent 15-day period (to July 20, 2009).

A copy of the application and accompanying exhibits will be available for public inspection at the Office of the Executive Secretary, Foreign-Trade Zones Board, Room 2111, U.S. Department of Commerce, 1401 Constitution Avenue, NW, Washington, DC 20230-0002, and in the “Reading Room” section of the Board's website, which is accessible via www.trade.gov/ftz.

For further information, contact Kathleen Boyce at Kathleen_Boyce@ita.doc.gov or (202) 482-1346.

Dated: April 28, 2009.
Andrew McGilvray,
Executive Secretary.

[FR Doc. E9-10182 Filed 5-1-09; 8:45 am]

BILLING CODE 3510-DS-S